DEPARTMENT OF LABOR

Employment and Training Administration

[TA-W-52,627]

Flextronics Logistics, Including Leased Workers of Wood Personnel, Mount Juliet, TN; Dismissal of Application for Reconsideration

Pursuant to 29 CFR 90.18(C) an application for administrative reconsideration was filed with the Director of the Division of Trade Adjustment Assistance for workers at Flextronics Logistics, including leased workers of Wood Personnel, Mount Juliet, Tennessee. The application contained no new substantial information which would bear importantly on the Department's determination. Therefore, dismissal of the application was issued.

TA-W-52,627; Flextronics Logistics, including leased Workers of Wood Personnel, Mount Juliet, Tennessee (January 7, 2004)

Signed at Washington, DC this 14th day of January 2004.
Timothy Sullivan,
Director, Division of Trade Adjustment Assistance.

[FR Doc. 04-1433 Filed 1-22-04; 8:45 am]

BILLING CODE 4510-30-P